DEPARTMENT OF HOMELAND SECURITY

Coast Guard

33 CFR Part 117

[Docket No. USCG-2018-1033]

Drawbridge Operation Regulation; South Branch of the Elizabeth River, Chesapeake, VA

AGENCY: Coast Guard, DHS.

ACTION: Notice of deviation from drawbridge regulation.

SUMMARY: The Coast Guard has issued a temporary deviation from the operating schedule that governs the Norfolk Southern #7 Railroad Bridge across the South Branch of the Elizabeth River, mile 5.8, at Chesapeake, VA. The deviation is necessary to facilitate maintenance. This deviation allows the bridge to remain in the closed-to-navigation position.

DATES: This deviation is effective without actual notice from December 3, 2018 through 5 p.m. on December 13, 2018. For the purposes of enforcement, actual notice will be used from 7 a.m. on November 26, 2018, until December 3, 2018.

ADDRESSES: The docket for this deviation, [USCG-2018-1033] is available at http://www.regulations.gov. Type the docket number in the “SEARCH” box and click “SEARCH”. Click on Open Docket Folder on the line associated with this deviation.

FOR FURTHER INFORMATION CONTACT: If you have questions on this temporary deviation, call or email Mr. Martin Bridges, Bridge Administration Branch Fifth District, Coast Guard; telephone (757) 398-6422, email Martin.A.Bridges@uscg.mil.

SUPPLEMENTARY INFORMATION: The Norfolk Southern Corporation, owner and operator of the Norfolk Southern #7 Railroad Bridge across the South Branch of the Elizabeth River, mile 5.8, at Chesapeake, VA, has requested a temporary deviation from the current operating schedule to accommodate bridge maintenance to perform a tie replacement project. The current operating regulation is set out in 33 CFR 117.997(d).

Under this temporary deviation, the bridge will be maintained in the closed-to-navigation position from 7 a.m. to 11:30 a.m. and from 12:30 p.m. to 5 p.m., Monday through Thursday, from November 26, 2018, through December 13, 2018. At all other times the bridge will operate per 33 CFR 117.997(d). The bridge has a vertical clearance of 7 feet above mean high water in the closed position.

The South Branch of the Elizabeth River is used by a variety of vessels including deep draft ocean-going vessels, U.S. government vessels, small commercial vessels, recreational vessels and tug and barge traffic. The Coast Guard has carefully considered the nature and volume of vessel traffic on the waterway and coordinated with maritime stakeholders in publishing this temporary deviation.

Vessels able to pass through the bridge in the closed position may do so, after providing 15 minutes notice to the project supervisor at the bridge on VHF-FM channel 13. The bridge will be able to open for emergencies if at least a 1-hour notice is given and there is no immediate alternate route for vessels unable to pass through the bridge in the closed position. The Coast Guard will also inform the users of the waterways through our Local and Broadcast Notice to Mariners of the change in operating schedule for the bridge so that vessel operators can arrange their transits to minimize any impact caused by this temporary deviation.

In accordance with 33 CFR 117.35(e), the drawbridge must return to its regular operating schedule immediately at the end of this effective period of this temporary deviation. This deviation from the operating regulations is authorized under 33 CFR 117.35.

Dated: November 27, 2018.
Hal R. Pitts,
Bridge Program Manager, Fifth Coast Guard District.

[FR Doc. 2018-26112 Filed 11-30-18; 8:45 am]

BILLING CODE 9110-04-P